DEPARTMENT OF ENERGY

Federal Energy Regulatory Commission

[Docket No. CP20-481-000]

Rio Bravo Pipeline Company, LLC; Notice of Availability of the Environmental Assessment for the Proposed Rio Bravo Pipeline Project Amendment

The staff of the Federal Energy Regulatory Commission (FERC or Commission) has prepared an environmental assessment (EA) for the Rio Bravo Pipeline Project Amendment (Project Amendment), proposed by Rio Bravo Pipeline Company, LLC (RB Pipeline) in the above-referenced docket. RB Pipeline filed an application in Docket No. CP20-481-000 requesting a Certificate of Public Convenience and Necessity pursuant to Section 7(c) of the Natural Gas Act to construct and operate certain natural gas pipeline facilities. The proposed Project Amendment would modify the pipeline system facilities approved in the Commission's Order Granting Authorizations under Sections 3 and 7 of the Natural Gas Act (Order) issued on November 22, 2019, that will transport natural gas to Rio Grande LNG, LLC's previously approved (but not yet constructed) liquefied natural gas (LNG) Terminal in Cameron County, Texas. RB Pipeline's entire pipeline system as authorized, and as modified by the Project Amendment, is located entirely in Texas.

The EA assesses the potential environmental effects of the construction and operation of the Project Amendment in accordance with the requirements of the National Environmental Policy Act (NEPA). The FERC staff concludes that approval of the proposed project, with appropriate mitigating measures, would not constitute a major federal action significantly affecting the quality of the human environment.

The U.S. Army Corps of Engineers and the U.S. Department of Transportation's Pipeline and Hazardous Materials Safety Administration participated as cooperating agencies in the preparation of the EA. Cooperating agencies have jurisdiction by law or special expertise with respect to resources potentially affected by the proposal and participate in the NEPA analysis.

The Rio Bravo Pipeline Project, as authorized in the November 2019 Order, consists of a 2.4-mile-long, 42-inch-diameter pipeline, including 0.8 mile of dual pipeline (referred to as the Header System) in Kleberg and Jim Wells Counties; 135.5 miles of parallel 42-inch-diameter pipelines originating in Kleberg County and terminating at Rio Grande LNG, LLC's Rio Grande LNG Terminal in Cameron County (referred to as Pipelines 1 and 2); four metering sites along the Header System; two interconnect booster compressor stations, each with a metering site; three compressor stations (one at the Rio Grande LNG Terminal); and other associated utilities, systems, and facilities, all in Texas. As part of the Project Amendment, RB Pipeline proposes various facility modifications to the authorized pipeline system:

• Decrease the maximum allowable operating pressure (MAOP) of the 2.4-mile-long Header System pipeline from 1,480 pounds per square inch gauge (psig) to 1,200 psig;

• construct an extension of 0.2 mile of mainline pipeline for each of Pipelines 1 and 2 for a total of 135.7 miles each;

• increase the diameter of Pipeline 1 from 42 inches to 48 inches and increase the MAOP of both pipelines from 1,480 psig to 1,825 psig (Pipeline 2 will remain a 42-inch-diameter pipeline); and

• increase the transportation capacity of Pipeline 1 from 2.25 billion cubic feet per day (Bcf/d) to 2.6 Bcf/d, and decrease the transportation capacity of Pipeline 2 from 2.25 Bcf/d to 1.9 Bcf/d, resulting in the total authorized capacity of 4.5 Bcf/d remaining unchanged.

The Project Amendment also includes modifications to the following aboveground facilities that are authorized (but as yet unbuilt) along the Rio Bravo Pipeline right-of-way:

• Eliminate Compressor Station 2 in Kenedy County;

• eliminate Compressor Station 3 within the Rio Grande LNG Terminal in Cameron County, except for a meter and other ancillary facilities within the LNG Terminal;

• eliminate all facilities associated with Booster Stations 1 and 2, including related meter stations, in Kenedy County; and

• increase the horsepower (hp) at Compressor Station 1 from 180,000 hp to 282,000 hp by switching from six 30,000-hp natural gas compressor units to four 43,000-hp natural gas compressor units and two 55,000-hp compressor units.

The Commission mailed a copy of the Notice of Availability to federal, state, and local government representatives and agencies; elected officials; environmental and public interest groups; Native American tribes; potentially affected landowners and other interested individuals and groups; and newspapers and libraries in the project area. The EA is only available in electronic format. It may be viewed and downloaded from the FERC's website (www.ferc.gov), on the natural gas environmental documents page (https://www.ferc.gov/industries-data/natural-gas/environment/environmental-documents). In addition, the EA may be accessed by using the eLibrary link on the FERC's website. Click on the eLibrary link (https://elibrary.ferc.gov/eLibrary/search), select “General Search” and enter the docket number in the “Docket Number” field, excluding the last three digits (i.e., CP20-481). Be sure you have selected an appropriate date range. For assistance, please contact FERC Online Support at FercOnlineSupport@ferc.gov or toll free at (866) 208-3676, or for TTY, contact (202) 502-8659.

The EA is not a decision document. It presents Commission staff's independent analysis of the environmental issues for the Commission to consider when addressing the merits of all issues in this proceeding. Any person wishing to comment on the EA may do so. Your comments should focus on the EA's disclosure and discussion of potential environmental effects, reasonable alternatives, and measures to avoid or lessen environmental impacts. The more specific your comments, the more useful they will be. To ensure that the Commission has the opportunity to consider your comments prior to making its decision on the Project Amendment, it is important that we receive your comments in Washington, DC on or before 5:00 p.m. Eastern Time on January 20, 2021.

For your convenience, there are three methods you can use to file your comments to the Commission. The Commission encourages electronic filing of comments and has staff available to assist you at (866) 208-3676 or FercOnlineSupport@ferc.gov. Please carefully follow these instructions so that your comments are properly recorded.

(1) You can file your comments electronically using the eComment feature on the Commission's website (www.ferc.gov) under the link to FERC Online. This is an easy method for submitting brief, text-only comments on a project;

(2) You can also file your comments electronically using the eFiling feature on the Commission's website (www.ferc.gov) under the link to FERC Online. With eFiling, you can provide comments in a variety of formats by attaching them as a file with your submission. New eFiling users must first create an account by clicking on “eRegister.” You must select the type of filing you are making. If you are filing a comment on a particular project, please select “Comment on a Filing”; or

(3) You can file a paper copy of your comments by mailing them to the Commission. Be sure to reference the project docket number (CP20-481-000) on your letter. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852.

Filing environmental comments will not give you intervenor status, but you do not need intervenor status to have your comments considered. Only intervenors have the right to seek rehearing or judicial review of the Commission's decision. At this point in this proceeding, the timeframe for filing timely intervention requests has expired. Any person seeking to become a party to the proceeding must file a motion to intervene out-of-time pursuant to Rule 214(b)(3) and (d) of the Commission's Rules of Practice and Procedures (18 CFR 385.214(b)(3) and (d)) and show good cause why the time limitation should be waived. Motions to intervene are more fully described at https://www.ferc.gov/ferc-online/ferc-online/how-guides.

Additional information about the project is available from the Commission's Office of External Affairs, at (866) 208-FERC, or on the FERC website (www.ferc.gov) using the eLibrary link. The eLibrary link also provides access to the texts of all formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to https://www.ferc.gov/ferc-online/overview to register for eSubscription.

Dated: December 21, 2020.
Kimberly D. Bose,
Secretary.

[FR Doc. 2020-28712 Filed 12-28-20; 8:45 am]

BILLING CODE 6717-01-P